DEPARTMENT OF COMMERCE

National Oceanic and Atmospheric Administration

50 CFR Part 660

[Docket No. 99122347-9347-01; I.D. 060500A]

Fisheries Off West Coast States and in the Western Pacific; Pacific Coast Groundfish Fishery; Whiting Closure for the Mothership Sector

AGENCY: National Marine Fisheries Service (NMFS), National Oceanic and Atmospheric Administration (NOAA), Commerce.

ACTION: Fishing restrictions; request for comments.

SUMMARY: NMFS announces closure of the 2000 mothership fishery for Pacific whiting (whiting) at 4:00 p.m. local time (l.t.) June 9, 2000, because the allocation for the mothership sector is projected to be reached by that time. This action is intended to keep the harvest of whiting at the 2000 allocation levels.

DATES: Effective from 4:00 p.m. l.t. June 9, 2000, until the start of the 2001 primary season for the mothership sector, unless modified, superseded or rescinded; such action will be published in the Federal Register. Comments will be accepted through June 29, 2000.

ADDRESSES: Submit comments to William Stelle, Jr., Administrator, Northwest Region (Regional Administrator), NMFS, 7600 Sand Point Way NE., Seattle, WA 98115-0070; or Rodney R. McInnis, Acting Regional Administrator, Southwest Region, NMFS, 501 West Ocean Blvd., Suite 4200, Long Beach, CA 90802-4213.

FOR FURTHER INFORMATION CONTACT: Katherine King at 206-526-6145 or Becky Renko at 206-526-6110.

SUPPLEMENTARY INFORMATION: This action is authorized by regulations implementing the Pacific Coast Groundfish Fishery Management Plan (FMP), which governs the groundfish fishery off Washington, Oregon, and California. On January 4, 2000 (65 FR 221), the levels of allowable biological catch (ABC), the optimum yield (OY) and the commercial OY (the OY minus the tribal allocation)for U.S. harvests of whiting were announced in the Federal Register. For 2000 the whiting ABC and OY are 232,000 mt (mt) and the commercial OY is 199,500 mt. Regulations at 50 CFR 660.323(a)(4) divide the commercial OY into separate allocations for the catcher/processor, mothership, and shore-based sectors of the whiting fishery. The 2000 allocations, which are based on the 2000 commercial OY, are 67,830 mt (34 percent) for the catcher/processor sector, 47,880 mt (24 percent) for the mothership sector, and 83,790 mt (42 percent) for the shoreside sector.

When each sector's allocation is reached, the primary season for that sector is ended. The catcher/processor sector is composed of vessels that harvest and process whiting. The mothership sector is composed of motherships, and catcher vessels that harvest whiting for delivery to motherships. Motherships are vessels that process, but do not harvest, whiting. The shoreside sector is composed of vessels that harvest whiting for delivery to shoreside processors. The regulations at 50 CFR 600.323 (a)(3)(i) describe the primary season for vessels delivering to motherships as the period(s) when at-sea processing is allowed and the fishery is open for the mothership sector.

NMFS Action

This action announces achievement of the allocation for the mothership sector only. The best available information on June 8, 2000, indicated that the 47,880-mt mothership allocation would be reached by 4:00 p.m., June 9, 2000, at which time the primary season for the mothership sector ends and further at-sea processing and receipt of whiting by a mothership, or taking and retaining, possessing, or landing of whiting by a catcher boat in the mothership sector, are prohibited. For the reasons stated here, and in accordance with the regulations at 50 CFR 660.323(a)(4)(iii)(B), NMFS herein announces that effective at 4:00 p.m., June 9, 2000—(1) further receiving or at-sea processing of whiting by a mothership is prohibited. No additional unprocessed whiting may be brought on board after at-sea processing is prohibited, but a mothership may continue to process whiting that was on board before at-sea processing was prohibited, and (2) whiting may not be taken and retained, possessed, or landed by a catcher vessel participating in the mothership sector.

Classification

This action is authorized by the regulations implementing the FMP. The determination to take this action is based on the most recent data available. The aggregate data upon which the determination is based are available for public inspection at the office of the Regional Administrator (see ADDRESSES) during business hours. This action is taken under the authority of 50 CFR 660.323(a)(4)(iii)(B) and is exempt from review under E.O. 12866.

Authority: 16 U.S.C. 1801 et seq.

Dated: June 9, 2000.
Bruce C. Morehead,
Acting Director, Office of Sustainable Fisheries, National Marine Fisheries Service.

[FR Doc. 00-14995 Filed 6-9-00; 1:38 pm]

BILLING CODE 3510-22-F